ENVIRONMENTAL PROTECTION AGENCY

[FRL-8002-1]

Northeast Chemical Superfund Site; Notice of Proposed Settlement

AGENCY: Environmental Protection Agency.

ACTION: Notice of Cost Recovery Settlement.

SUMMARY: Under Section 122(h) (1) of the Comprehensive Environmental Response, Compensation, and Liability Act (CERCLA), the Environmental Protection Agency has entered into a Cost Recovery Settlement with Solitron Devices, Inc. to settle liability at the following Superfund Sites: Solitron Devices Superfund Site located in Riviera Beach, Florida; Solitron Microwave Superfund Site located in Port Salerno, Florida; Petroleum Products Corporation Superfund Site located in Pembroke Park, Florida; City Industries, Inc. Superfund Site located in Orlando, Florida; and Casmalia Resources Superfund Site located in Santa Barbara County, California. EPA will consider public comments on the settlement until December 27, 2005. EPA may withdraw from or modify the proposed settlement should such comments disclose facts or considerations which indicate the proposed settlement is inappropriate, improper or inadequate.

Copies of the proposed settlement are available from: Ms. Paula V. Batchelor, U.S. Environmental Protection Agency, Region 4, Superfund Enforcement & Information Management Branch, Waste Division, 61 Forsyth Street, SW., Atlanta, Georgia 30303, 404/562-8887, Batchelor.Paula@epa.gov.

Written or e-mail comments may be submitted to Ms. Batchelor at the above address within the 30 days specified above.

Dated: November 4, 2005.
Rosalind H. Brown,
Chief, Superfund Enforcement & Information Management Branch, Waste Management Division.

[FR Doc. 05-23274 Filed 11-23-05; 8:45 am]

BILLING CODE 6560-50-P